DEPARTMENT OF TRANSPORTATION

Federal Aviation Administration

14 CFR Part 39

[Docket No. FAA-2004-19562; Directorate Identifier 2004-NM-73-AD; Amendment 39-13992; AD 2005-05-04]

RIN 2120-AA64

Airworthiness Directives; Aerospatiale Model ATR 42-200, -300, and -320 Series Airplanes

AGENCY: Federal Aviation Administration (FAA), Department of Transportation (DOT).

ACTION: Final rule.

SUMMARY: The FAA is adopting a new airworthiness directive (AD) for all Aerospatiale Model ATR 42-200, -300, and -320 series airplanes. This AD requires inspecting to determine the part and serial number of the swinging lever of the main landing gears (MLG) and replacing the swinging lever if necessary. This AD is prompted by a report that, on an airplane lined up for takeoff, the swinging lever of the left MLG collapsed when engine power was applied. We are issuing this AD to prevent fracture of the MLG swinging lever, which could result in collapse of the swinging lever and reduced structural integrity and possible collapse of the MLG during operations on the ground.

DATES: This AD becomes effective April 6, 2005.

The incorporation by reference of a certain publication listed in the AD is approved by the Director of the Federal Register as of April 6, 2005.

ADDRESSES: For service information identified in this AD, contact Aerospatiale, 316 Route de Bayonne, 31060 Toulouse, Cedex 03, France. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19562; the directorate identifier for this docket is 2004-NM-73-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for all Aerospatiale Model ATR 42-200, -300, and -320 series airplanes. That action, published in the Federal Register on November 10, 2004 (69 FR 65101), proposed to require inspecting to determine the part and serial number of the swinging lever of the main landing gears (MLG) and replacing the swinging lever if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 24 airplanes of U.S. registry. The required inspection will take about 1 work hour per airplane, at an average labor rate of $65 per work hour. Based on these figures, the estimated cost of the AD for U.S. operators is $1,560, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-04 Aerospatiale: Amendment 39-13992. Docket No. FAA-2004-19562; Directorate Identifier 2004-NM-73-AD.

Effective Date

(a) This AD becomes effective April 6, 2005.

Affected ADs

(b) None.

Applicability

(c) This AD applies to all Aerospatiale Model ATR 42-200, -300, and -320 series airplanes; certificated in any category.

Unsafe Condition

(d) This AD was prompted by a report that, on an airplane lined up for takeoff, the swinging lever of the left main landing gear (MLG) collapsed when engine power was applied. We are issuing this AD to prevent fracture of the MLG swinging lever, which could result in collapse of the swinging lever and reduced structural integrity and possible collapse of the MLG during operations on the ground.

Compliance

(e) You are responsible for having the actions required by this AD performed within the compliance times specified, unless the actions have already been done.

Inspection to Determine Part and Serial Numbers

(f) Within 30 days after the effective date of this AD, inspect to determine the part number (P/N) and serial number (S/N) of the swinging lever of the MLG.

(1) If the P/N of the swinging lever is not D56771; or if the P/N of the swinging lever is D56771 but the S/N is not from 115 to 151 inclusive; no further action is required by this paragraph.

(2) If the P/N of the swinging lever is D56771 and the S/N is from 115 to 151 inclusive, within 90 days after the effective date of this AD: Remove the swinging lever and replace it with a new or serviceable lever in accordance with Job Instruction Card 32-11-00 RAI 10030-001, dated February 1, 2000, of the Avions de Transport Regional 42 Aircraft Maintenance Manual.

No Reporting Requirement

(g) Though French airworthiness directive 2003-376(B), dated October 1, 2003, specifies that operators shall report certain inspection findings to Messier-Dowty, this AD does not require this.

Disposition of Swinging Levers

(h) Though French airworthiness directive 2003-376(B), dated October 1, 2003, specifies that operators shall return swinging levers with applicable serial numbers to Messier-Dowty for discard, this AD does not require this.

Parts Installation

(i) As of the effective date of this AD, no person may install on any airplane an MLG swinging lever, P/N D56771, having a S/N from 115 to 151 inclusive.

Alternative Methods of Compliance (AMOCs)

(j) The Manager, International Branch, ANM-116, Transport Airplane Directorate, FAA, has the authority to approve AMOCs for this AD, if requested in accordance with the procedures found in 14 CFR 39.19.

Related Information

(k) French airworthiness directive 2003-376(B), dated October 1, 2003, also addresses the subject of this AD.

Material Incorporated by Reference

(l) You must use Job Instruction Card 32-11-00 RAI 10030-001, dated February 1, 2000, of the Avions de Transport Regional 42 Aircraft Maintenance Manual to perform the actions that are required by this AD, unless the AD specifies otherwise. The Director of the Federal Register approves the incorporation by reference of this document in accordance with 5 U.S.C. 552(a) and 1 CFR part 51. For copies of the service information, contact Aerospatiale, 316 Route de Bayonne, 31060 Toulouse, Cedex 03, France. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on February 17, 2005.
Ali Bahrami,
Manager, Transport Airplane Directorate, Aircraft Certification Service.

[FR Doc. 05-3787 Filed 3-1-05; 8:45 am]

BILLING CODE 4910-13-P